FEDERAL COMMUNICATIONS COMMISSION

47 CFR Parts 2, 27, and 90

[WT Docket No. 06-150; CC Docket No. 94-102, WT Docket No. 01-309, WT Docket No. 03-264, WT Docket No. 06-169; PS Docket No. 06-229; WT Docket No. 96-86; WT Docket No. 07-166; FCC No. 07-132]

Service Rules for the 698-806 MHz Band, Revision of the Commission's Rules Regarding Public Safety Spectrum Requirements, and a Declaratory Ruling on Reporting Requirement Under the Commission's Anti-Collusion Rule; Corrections

AGENCY: Federal Communications Commission.

ACTION: Correcting amendments.

SUMMARY: The Federal Communications Commission (FCC) published in the Federal Register of August 24, 2007, a document concerning the adoption of final rules governing wireless licenses in the 698-806 MHz Band (i.e., the 700 MHz Band) (72 FR 48814). That document inadvertently failed to update sections 2.106, 27.6, 27.1333, 90.176, 90.545, 90.549, and 90.555. This document corrects the final regulations by revising these sections.

DATES: Effective November 29, 2007.

FOR FURTHER INFORMATION CONTACT: Paul Moon at (202) 418-1793, paul.moon@fcc.gov, Mobility Division, Wireless Telecommunications Bureau; Peter Trachtenberg at (202) 418-7369, peter.trachtenberg@fcc.gov, Spectrum and Competition Policy Division, Wireless Telecommunications Bureau; Jeff Cohen at (202) 418-0799, jeff.cohen@fcc.gov, Public Safety and Homeland Security Bureau.

SUPPLEMENTARY INFORMATION: This is a partial summary of the Federal Communications Commission's Erratum, FCC 07-132, released on October 25, 2007. This document augments another partial summary of that Erratum published in the Federal Register November 29, 2007.

List of Subjects

47 CFR Part 2

Communications equipment, Disaster assistance, Radio, Reporting and recordkeeping requirements, Telecommunications, Television.

47 CFR Part 27

Communications common carriers, Radio, Wireless radio services.

47 CFR Part 90

Civil defense, Common carriers, Emergency medical services, Radio, Reporting and recordkeeping requirements.

Accordingly, 47 CFR parts 2, 27, and 90 are corrected by making the following correcting amendments:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106 is amended by revising footnote NG158 to read as follows:

§ 2.106 Table of Frequency Allocations.

* * * * *

NG158. The frequency bands 763-775 MHz and 793-805 MHz are available for assignment to the public safety services, as described in Part 90 of this chapter.

* * * * *

PART 27—MISCELLANEOUS WIRELESS COMMUNICATIONS SERVICES

3. The authority citation for part 27 continues to read as follows:

Authority: 47 U.S.C. 154, 301, 302, 303, 307, 309, 332, 336, and 337 unless otherwise noted.

4. Section 27.6 is amended by revising paragraph (b)(3) to read as follows:

§ 27.6 Service Areas.

* * * * *

(b) * * *

(3) Service area for Block D in the 758-763 MHz and 788-793 MHz bands is a nationwide area as defined in paragraph (a) of this section.

* * * * *

5. Part 27, Subpart G is amended by revising the subpart heading to read as follows:

Subpart G—Guard Band A and B Blocks (757-758/787-788 MHz and 775-776/805-806 MHz Bands).

6. Section 27.1333 is amended by revising paragraph (b) to read as follows:

§ 27.1333 Geographic partitioning, spectrum disaggregation, license assignment and transfer.

* * * * *

(b) The 700 MHz Upper D Block licensee will be permitted to assign or transfer its license subject to Commission review and prior approval. The Upper 700 MHz D Block license assignment or transfer applications are precluded from the immediate approval procedures as specified in § 1.948(j)(2).

PART 90—PRIVATE LAND MOBILE RADIO SERVICES

7. The authority citation for part 90 continues to read as follows:

Authority: Sections 4(i), 11, 303(g), 303(r), and 332(c)(7) of the Communications Act of 1934, as amended, 47 U.S.C. 154(i), 161, 303(g), 303(r), and 332(c)(7).

8. Section 90.176 is amended by revising the section heading to read as follows:

§ 90.176 Coordinator notification requirements on frequencies below 512 MHz, at 769-775/799-805 MHz, or at 1427-1432 MHz.

* * * * *

9. Section 90.545 is amended by revising the introductory text to read as follows:

§ 90.545 TV/DTV interference protection criteria.

Public safety base, control, and mobile transmitters in the 769-775 MHz and 799-805 MHz frequency bands must be operated only in accordance with the rules in this section, to reduce the potential for interference to public reception of the signals of existing TV and DTV broadcast stations transmitting on TV Channels 62, 63, 64, 65, 67, 68 or 69.

* * * * *

10. Section 90.549 is revised to read as follows:

§ 90.549 Transmitter certification.

Transmitters operated in the 763-775 MHz and 793-805 MHz frequency bands must be of a type that have been authorized by the Commission under its certification procedure as required by § 90.203.

11. Section 90.555 is amended by revising paragraphs (a) introductory text, (b)(1) and (2), and (c)(1) and (2) to read as follows:

§ 90.555 Information exchange.

(a) Prior notification. Public safety licensees authorized to operate in the 763-775 MHz and 793-805 MHz bands may notify any licensee authorized to operate in the 746-757, 758-763, 776-787, or 788-793 MHz bands that they wish to receive prior notification of the activation or modification of the licensee's base or fixed stations in their area. Thereafter, the 746-757, 758-763, 776-787, or 788-793 MHz band licensee must provide the following information to the public safety licensee at least 10 business days before a new base or fixed station is activated or an existing base or fixed station is modified:

* * * * *

(b) * * *

(1) Allow a public safety licensee to advise the 746-757, 758-763, 776-787, or 788-793 MHz band licensee whether it believes a proposed base or fixed station will generate unacceptable interference;

(2) Permit 746-757, 758-763, 776-787, and 788-793 MHz band licensees to make voluntary changes in base or fixed station parameters when a public safety licensee alerts them to possible interference; and,

* * * * *

(c) * * *

(1) Upon request by a 746-757, 758-763, 776-787, or 788-793 MHz band licensee, public safety licensees authorized to operate radio systems in the 763-775 and 793-805 MHz bands shall provide the operating parameters of their radio system to the 746-757, 758-763, 776-787, or 788-793 MHz band licensee.

(2) Public safety licensees who perform the information exchange described in this section must notify the appropriate 746-757, 758-763, 776-787, or 788-793 MHz band licensees prior to any technical changes to their radio system.

Federal Communications Commission.
Marlene H. Dortch,
Secretary.

[FR Doc. E7-23097 Filed 11-28-07; 8:45 am]

BILLING CODE 6712-01-P